DEPARTMENT OF LABOR

Employment and Training Administration

[TA-W-71,047]

UAW-Chrysler National Training Center, Detroit, MI; Notice of Affirmative Determination Regarding Application for Reconsideration

By application dated June 15, 2010, the State of Michigan requested administrative reconsideration of the negative determination regarding workers' eligibility to apply for Trade Adjustment Assistance (TAA) applicable to workers and former workers of the subject firm. The Department's determination was issued on April 13, 2010, and the Notice of determination was published in the Federal Register on May 20, 2010 (75 FR 28301).

The initial investigation resulted in a negative determination based on the finding that a significant number or proportion of the workers in the UAW-Chrysler National Training Center, Detroit, Michigan, had not been separated or threatened with separation.

In the request for reconsideration, the petitioner provided additional information regarding the number of employees of the subject firm.

The Department has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 21st day of June, 2010.
Del Min Amy Chen,
Certifying Officer, Division of Trade Adjustment Assistance.

[FR Doc. 2010-16020 Filed 6-30-10; 8:45 am]

BILLING CODE 4510-FN-P